Title 3—

The President

Executive Order 13459 of February 7, 2008

Improving the Coordination and Effectiveness of Youth

Programs

By the authority vested in me as President by the Constitution and the laws of the United States of America, and in recognition of the successful interagency collaboration resulting from the Helping America's Youth initiative, it is hereby ordered as follows:

Section 1. Policy. It is the policy of the Federal Government to promote achievement of positive results for at-risk youth through:

(a) enhanced collaboration among government organizations at the Federal, State, and local level, including with faith-based and other community organizations, as well as among families, schools, and communities, in order to leverage existing resources and improve outcomes;

(b) identification and dissemination of promising strategies and practices that have been proven effective through rigorous evaluation; and

(c) online publication of essential information to assist interested citizens and decision-makers, particularly at the community level, to plan, implement, and participate in effective programs for at-risk youth.

Sec. 2. Establishment of the Interagency Working Group on Youth Programs. The Secretary of Health and Human Services (Secretary) shall establish within the Department of Health and Human Services for administrative purposes only, an Interagency Working Group on Youth Programs (Working Group), consistent with this order and reflecting the ongoing interagency collaboration under the Helping America's Youth initiative.

Sec. 3. Membership and Operation of the Working Group.

(a) The Working Group shall consist exclusively of the following members or their designees, who shall be full-time Federal officers or employees:

(i) the Secretary;

(ii) the Attorney General;

(iii) the Secretaries of Defense, the Interior, Agriculture, Commerce, Labor, Housing and Urban Development, and Education;

(iv) the Director of the Office of National Drug Control Policy;

(v) the Chief Executive Officer of the Corporation for National and Community Service; and

(vi) other officers or full-time or permanent part-time employees of the United States, as determined by the Secretary, with the concurrence of the head of the department or agency concerned.

(b) The Secretary (or the Secretary's designee) shall serve as Chair, and the Attorney General (or the Attorney General's designee) shall serve as Vice Chair, for a period of 2 years from the date of this order. Subsequent Chairs and Vice Chairs shall be designated by the Secretary on a biennial basis.

(c) In implementing this section, the Chair, and in the Chair's absence the Vice Chair, shall convene and preside at meetings of the Working Group, determine its agenda, direct its work, and establish and direct subgroups of the Working Group, as appropriate, to deal with particular subject matters, that shall consist exclusively of members of the Working Group or their designees. The Chair, after consultation with the Vice Chair, shall designate an officer or employee of one of the member departments or agencies to serve as the Executive Secretary of the Working Group. The Executive Secretary shall head any staff assigned to the Working Group and any subgroups thereof, and such staff shall consist exclusively of full-time or permanent part-time Federal employees.

Sec. 4. Functions of the Working Group. Consistent with the policy set forth in section 1 of this order, the Working Group shall:

(a) identify and engage key government and private or nonprofit organizations that can play a role in improving the coordination and effectiveness of programs serving and engaging youth, such as faith-based and other community organizations, businesses, volunteers, and other key constituencies;

(b) develop a new Federal website on youth, built upon the Community Guide to Helping America's Youth, with the first phase of this website to be launched within 10 months of the date of this order, by:

(i) identifying and assessing the strengths and weaknesses of existing Federal websites focusing on youth-serving entities in order to improve access to the most useful content;

(ii) providing for training to youth-serving entities to enable effective use of the Federal website;

(iii) developing additional strategies and tools and resources accessible through the Federal website that will help promote effective community-based efforts to reduce the factors that put youth at risk and the provision of high-quality services to at-risk youth across the country; and

(iv) developing strategies to ensure that the Federal website is routinely updated, improved, and publicized;

(c) encourage all youth-serving Federal and State agencies, communities, grantees, and organizations to adopt high standards for assessing program results, including through the use of rigorous impact evaluations, as appropriate, so that the most effective practices can be identified and replicated, and ineffective or duplicative programs can be eliminated or reformed;

(d)(i) identify and promote initiatives and activities that merit strong interagency collaboration because of their potential to offer cost-effective solutions to achieve better results for at-risk youth, including volunteer service in concert with the USA Freedom Corps and mentoring in concert with the Federal Mentoring Council; and,

(ii) encourage rigorous evaluations, as appropriate, of such initiatives and activities to ascertain their effectiveness in improving academic, employment, social, and other individual outcomes, and make these findings publicly available, and

(e) annually report to the President, through the Assistant to the President for Domestic Policy, on its work and on the implementation of any recommendations arising from its work, with the first such report to be submitted no later than 6 months after the date of this order.

Sec. 5. Administration of the Working Group. (a) The Secretary shall, to the extent permitted by law, provide administrative support and funding for the Working Group.

With the consent of the Secretary, other member departments or agencies may provide administrative support to the Working Group, to the extent permitted by law and consistent with their statutory authority.

(b) The heads of executive departments and agencies shall provide, as appropriate, such assistance and information as the Secretary may request to implement this order.

(c) The website referred to in section 4(b) of this order shall be funded by contributions from executive departments and agencies to the extent permitted by law and consistent with their statutory authority.

Sec. 6. General Provisions. (a) Nothing in this order shall be construed to impair or otherwise affect:

(i) authority granted by law to a department, agency, or the head thereof; or

(ii) functions of the Director of the Office of Management and Budget relating to budget, administrative, or legislative proposals.

(b) This order shall be implemented consistent with applicable law and subject to the availability of appropriations.

(c) This order is not intended to, and does not, create any right or benefit, substantive or procedural, enforceable at law or in equity, by any party against the United States, its departments, agencies, or entities, its officers, employees, or agents, or any other person.

THE WHITE HOUSE,

February 7, 2008.

[FR Doc. 08-658

Filed 2-11-08; 8:45 am]

Billing code 3195-01-P